DEPARTMENT OF HEALTH AND HUMAN SERVICES

Indian Health Service

Request for Public Comment: 30-Day Notice; Proposed Information Collection: Indian Health Service Forms

AGENCY: Indian Health Service, HHS.

ACTION: Request for Public Comment: 30-day Proposed Information Collection: Indian Health Service Forms to Implement the Privacy Rule (45 CFR parts 160 & 164).

SUMMARY: The Indian Health Service (IHS), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. As required by section 3507(a)(1)(D) of the PRA95, the proposed information collection has been submitted to the Office of Management and Budget (OMB) for review and approval.

The IHS received no comments in response to the 60-day Federal Register notice (74 FR 30095) published on June 24, 2009. The purpose of this notice is to allow an additional 30 days for public comment to be submitted directly to OMB.

Proposed Collection: Title: 0917-0030, “Indian Health Service Forms to Implement the Privacy Rule (45 CFR parts 160 & 164)”. Type of Information Collection Request: Extension, with revisions, of currently approved information collection, 0917-0030, “Indian Health Service Forms to Implement the Privacy Rule (45 CFR parts 160 & 164)”. Form Number: IHS-810, IHS-912-1, IHS-912-2, IHS-913, and IHS-917. Need and Use of Information Collection: The IHS will use the following data collection instructions to continue the implementation of the information collection requirements contained in the Privacy Rule.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time, directly to: Office of Management and Budget, Office of Regulatory Affairs, New Executive Office Building, Room 10235, Washington, DC 20503, Attention: Allison Eydt, Desk Officer for IHS.

For Further Information: Send requests for more information on the proposed collection or to obtain a copy of the data collection instrument(s) and instructions to: Ms. Betty Gould, IHS Reports Clearance Officer, 801 Thompson Avenue, TMP, Suite 450, Rockville, MD 20852-1601, call non-toll free (301) 443-7899, send via facsimile to (301) 443-9879, or send your e-mail requests, comments, and return address to: betty.gould@ihs.gov.

Comment Due Date: Your comments regarding this information collection are best assured of having full effect if received within 30 days of the date of this publication.

Dated: November 6, 2009.
Yvette Roubideaux,
Director, Indian Health Service.

[FR Doc. E9-27541 Filed 11-19-09; 8:45 am]

BILLING CODE 4165-16-M